DEPARTMENT OF ENERGY

Bonneville Power Administration

Transmission System Vegetation Management Program

AGENCY: Bonneville Power Administration (Bonneville), Department of Energy (DOE).

ACTION: Notice of supplemental Record of Decision (ROD).

SUMMARY: This supplemental ROD is to clarify Bonneville's decisions regarding its approved herbicide list and procedures that were adopted in its ROD of July 2000, based on its Transmission System Vegetation Management Program Environmental Impact Statement (EIS) (DOE/EIS-0285, May 2000). The remaining text of the supplemental ROD is included in its entirety in the Supplementary Information section of this notice.

ADDRESSES: Additional copies of this supplemental ROD may be obtained by calling Bonneville's toll-free document request line: 1-800-622-4520. The EIS and initial ROD (July 2000) are also available. These documents may also be viewed on Bonneville's website: http://www.efw.bpa.gov.

FOR FURTHER INFORMATION CONTACT: Stacy Mason, Environmental Project Manager—KEC-4, Bonneville Power Administration, P.O. Box 3621, Portland, Oregon, 97208-3621; telephone number 503-230-5455; fax number 503-230-5699; e-mail slmason@bpa.gov.

SUPPLEMENTARY INFORMATION:

a. Decisions

As part of the program that was adopted, Bonneville approved the use of herbicides as one of the tools that could be used to control vegetation on rights-of-way, in electric yards, and at non-electric facilities. Twenty-three herbicide active ingredients were analyzed in the EIS and adopted as the approved herbicide list. Bonneville also adopted a process for adding or eliminating herbicide ingredients to or from our program. The following decisions are being clarified in this supplemental ROD:

(1) Herbicide Mixtures. Bonneville will allow the mixture of any herbicides that are on Bonneville's approved herbicide list if the mixture meets all the following conditions: (a) It is an allowed mixture according to the instructions contained in the herbicide label, (b) A Bonneville environmental review of the mixture is conducted in order to provide information regarding toxicity ratings so that appropriate buffers and mitigation measures may be applied, and (c) There are not any known synergistic effects such that the toxicity of the herbicide mixture is greater than that of either herbicide used singly. If there are known or suspected synergistic effects, Bonneville will conduct further environmental analysis consistent with the National Environmental Policy Act (NEPA) prior to the use of the mixture. The NEPA analysis will begin in the form of a supplement analysis tiered to the Final Environmental Impact Statement (FEIS) and ROD and may result in a supplemental EIS depending upon the results of the supplement analysis. The supplement analysis will compare the potential impacts of the mixtures with those disclosed in the FEIS and will include public comment. This analysis will ensure that impacts of the mixtures with synergistic effects are adequately analyzed within the range of alternatives addressed in the FEIS.

(2) Adjuvants. Bonneville's adopted process for approving new herbicides will be applied to new adjuvants as well. The environmental review for that process will begin with a supplement analysis tiered to the FEIS and ROD as described above for herbicide mixtures with synergistic effects.

(3) Herbicide Facility Use Correction. Bonneville will add glyphosate for potential use at non-electric facilities. The original ROD approved glyphosate for use on rights-of-way and in electric yards. Due to an oversight, glyphosate was mistakenly not approved for use at non-electric facilities for landscape and workyard maintenance. The potential impacts for this herbicide were described in the FEIS.

b. Background

Bonneville is responsible for maintaining a network of transmission lines, substations, and other related facilities throughout the Northwest. As part of that maintenance, Bonneville needs to keep vegetation a safe distance away from our electric power facilities (rights-of-way, electric yards, and non-electric facilities such as maintenance work yards). In our Transmission System Vegetation Management Program EIS and ROD, Bonneville adopted a program for managing vegetation at our facilities. Below is a summary of the decisions we made for our program:

• Promote the establishment of low-growing plant communities on the rights-of-way to “out-compete” trees and tall-growing brush;

• Have all possible vegetation control methods available for use to maintain rights-of-way (manual, mechanical, biological, and herbicide—spot, localized, broadcast, and aerial application);

• Allow the use of herbicides available to treat any kind of vegetation needing management for rights-of-way;

• Continue our current practice of controlling vegetation in electrical yards using primarily pre-emergent herbicides;

• For other non-electric facilities, continue to have available a variety of methods for use to manage vegetation, including manual and mechanical methods, herbicides, and fertilizers;

• Use the planning steps outlined in the FEIS to guide site-specific vegetation projects and their environmental review tiered to the FEIS;

• Use only a list of herbicides that Bonneville approves for use; and

• Adopt a procedure of environmental review tiered to the FEIS for adding or eliminating herbicide ingredients, or new methods or techniques to the program.

This supplemental ROD addresses three herbicide-use decisions that were overlooked in the original ROD.

c. Rationale for the Decisions

The rationales for adopting the decisions described in this supplemental ROD are as follows:

(1) Herbicide Mixtures. Bonneville analyzed the impacts of herbicide active ingredients in the FEIS. In most cases, the toxicity ratings for a herbicide mixture will be the same as that of the single active ingredient in the mixture that has the highest toxicity rating. Therefore, the potential environmental impacts of using the mixture would be the same as using the ingredients singly, and those impacts have been analyzed in the FEIS.

There is a potential that mixing two herbicides could cause a synergistic effect such that the toxicity of the herbicide mixture is greater than that of either herbicide used singly. Therefore, if the mixtures have known synergistic effects, or are likely to have synergistic effects, we would conduct further NEPA review to determine (a) the potential impacts of those effects, (b) if the impacts are consistent with impacts disclosed in the FEIS, and (c) whether the use of the mixture would be allowed in the program. This process ensures that Bonneville will be considering the environmental impact of the use of herbicide mixtures.

(2) Adjuvants. Adjuvants are ingredients mixed with herbicides to enhance the usefulness of the herbicide (such as sticking agents, thickening agents, stabilizers, etc.). Adjuvants by themselves can potentially cause environmental impacts. If Bonneville wants to add adjuvants not considered in the FEIS for use in the program, we will develop a supplement analysis, which includes public involvement as discussed in the initial ROD, to make sure the potential impacts are considered.

(3) Herbicide Facility Use Correction. Bonneville intended to list glyphosate as a herbicide to be used at non-electric facilities (it was analyzed in the FEIS and approved for use on rights-of-way and in electric yards). The human health toxicity assessment and ecological toxicities and characteristics of glyphosate are as researched and reported in the FEIS. Glyphosate is practically non-toxic to mammals, avian species, and microorganisms. Glyphosate is moderately toxic to aquatic species. Glyphosate has no soil residual activity and must be applied by direct foliar application thereby reducing direct or indirect introduction into water bodies. Keeping in mind that using glyphosate at non-electric facilities typically means for use in landscaping, adding glyphosate for landscaping will potentially decrease or eliminate the use and amount of more toxic active ingredients already approved for use at non-electric facilities.

Issued in Portland, Oregon, on February 16, 2001.
Steven G. Hickok,
Acting Administrator and Chief Executive Officer.

[FR Doc. 01-4640 Filed 2-23-01; 8:45 am]

BILLING CODE 6450-01-P